FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012359.

Title: MOL/Volkswagen Konzernlogistik GmbH & Co.OHG Space Charter Agreement.

Parties: Mitsui O.S.K. Lines Ltd and Volkswagen Konzernlogistik Gmbh & Co.OHG.

Filing Party: Eric. C. Jeffrey, Esq.; Nixon Peabody LLP; 799 9th Street NW., Suite 500; Washington, DC 20001.

Synopsis: The agreement would authorize Mitsui to charter space to Volkswagen for the carriage of vehicles and other Ro-Ro cargo between the U.S. on the one hand, and Mexico, Germany and Canada on the other hand.

By Order of the Federal Maritime Commission.
Dated: September 18, 2015.
Rachel E. Dickon,
Assistant Secretary.

[FR Doc. 2015-24174 Filed 9-22-15; 8:45 am]

BILLING CODE 6731-AA-P